DEPARTMENT OF COMMERCE

National Oceanic and Atmospheric Administration

Proposed Information Collection; Comment Request; Atlantic Highly Migratory Species Vessel and Gear Marking

AGENCY: National Oceanic and Atmospheric Administration (NOAA), Department of Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 5, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Michael Clark, 301-713-2347 or Michael.Clark@noaa.gov.

SUPPLEMENTARY INFORMATION:

I. Abstract

Under current regulations at 50 CFR 635.6, fishing vessels permitted for Atlantic Highly Migratory Species must display their official vessel numbers on their vessels. Flotation devices attached to certain fishing gears must also be marked with the vessel's number to identify which vessel is responsible for the gear. These requirements are necessary for law enforcement and monitoring purposes.

Specifically, all vessels owners that hold a valid Highly Migratory Species (HMS) permit, other than an HMS angling permit, are required to mark their vessels with their vessel identification number. The numbers should be permanently affixed to, or painted on the port and starboard sides of the deckhouse or hull, and on an appropriate weather deck, so as to be clearly visible from an enforcement vessel or aircraft. Furthermore, fishermen that use longline gear must mark high-flyers and terminal buoys with their vessel identification number. The gillnet fishermen must mark their terminal buoys, and handgear or harpoon fishermen must mark all buoys attached to their gear with their vessel identification number. Buoy gear fishermen must mark all flotation devices attached to certain fishing gears.

II. Method of Collection

There is no form under this requirement. Official vessel numbers issued to vessel operators are marked on the vessel and on flotation devices attached to certain fishing gears, if applicable.

III. Data

OMB Control Number: 0648-0373.

Form Number: None.

Type of Review: Regular submission.

Affected Public: Business or other for-profit organizations; individuals or households.

Estimated Number of Respondents: 7,842.

Estimated Time per Response: 45 minutes to mark a vessel and 15 minutes to mark a flotation device.

Estimated Total Annual Burden Hours: 6,954.

Estimated Total Annual Cost to Public: $286,040.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 27, 2008.
Gwellnar Banks,
Management Analyst, Office of the Chief Information Officer.

[FR Doc. E8-4075 Filed 3-3-08; 8:45 am]

BILLING CODE 3510-22-P